DEPARTMENT OF COMMERCE

Bureau of the Census

2030 Census Advisory Committee

AGENCY: Census Bureau, Department of Commerce.

ACTION: Notice of request for nominations.

SUMMARY: The Census Bureau is requesting nominations of members representing stakeholder organizations, groups, interests, and viewpoints to the 2030 Census Advisory Committee (Committee). The Census Bureau will consider nominations received in response to this notice, as well as from other sources. The SUPPLEMENTARY INFORMATION section of this notice provides committee and membership criteria.

DATES: Please submit nominations by September 30, 2023.

ADDRESSES: Please submit nominations to the 2030 Census Advisory Committee email address, Census.2030.Advisory.Committee@census.gov (subject line “2030 Census Advisory Committee Nomination”).

FOR FURTHER INFORMATION CONTACT: Shana J. Banks, Chief, Advisory Committee Branch, Office of Program, Performance and Stakeholder Integration (PPSI), Census Bureau, by telephone at 301-763-3815 or by email at Shana.J.Banks@census.gov. Individuals who use telecommunication devices for the deaf (TDD) may call the Federal Information Relay Service (FIRS) at 1-800-877-8339 between 8:00 a.m. and 8:00 p.m., Eastern Standard Time, Monday through Friday.

SUPPLEMENTARY INFORMATION: The Committee is established under agency authority pursuant to 15 U.S.C. 1512, and in accordance with the provisions of the Federal Advisory Committee Act, as amended, (FACA), 5 U.S.C. 1001 et seq. The following provides information about the committee, membership, and the nomination process.

Objectives and Duties

1. The Committee will review and provide feedback related to 2030 Census plans and execution to assist the Census Bureau to devise strategies to increase census awareness and participation, reduce barriers to response, and enhance the public's trust and willingness to respond.

2. As part of this work, the Committee may consider, among other things, implications of enumeration strategies, including use of administrative and third-party data, how best to leverage partner and stakeholder support efforts throughout the decade, new technologies, social media and marketing, the role of tribal, state, and local governments, and the outreach and mobilization needs of historically undercounted populations.

3. The Committee may advise and provide recommendations on external factors and policies that may affect 2030 Census plans.

4. The Committee may advise the Census Bureau on communicating with the public to ensure maximum self-response and participation by the public in the 2030 Census.

5. The Committee may devise and recommend strategies to increase census awareness and participation, and to motivate response to the 2030 Census.

6. The Committee may provide feedback and recommendations regarding proposed 2030 Census data products' content, timing, geographic specificity, and fitness for use.

7. The Committee may provide recommendations regarding 2030 Census employee recruitment strategies.

8. The Committee may consider the Census Bureau's outreach, communications, and partnership efforts, providing perspectives on community trends, challenges, and opportunities for the 2030 Census. This may include recommendations on how to capture broader community perspectives.

9. The Committee will provide insight, perspectives, and expertise through recommendations on planning and implementation of the 2030 Census to advise the Census Bureau in conducting an accurate decennial census. The Committee will provide the Director of the Census Bureau periodic updates on insights regarding various topics relating to preparation for the 2030 Census.

10. The committee will function solely as an advisory body and shall fully comply with the provisions of FACA.

Membership

1. The Committee will consist of up to approximately 30 members representing stakeholder organizations, groups, interests, and viewpoints. Members will be appointed by and serve at the discretion of the Director of the Census Bureau.

2. Members will be selected on a standardized basis, in accordance with applicable Department of Commerce guidance. Members will be selected from the public and private sectors and will have experience as well as expertise in census and survey matters, including but not limited to: historically undercounted populations; national, state, local, and tribal areas; redistricting including interactions with state officials and redistricting experts; international and national statistics; geospatial information; census involvement and needs of community-based organizations and academia; the business and technology sectors; and marketing and media sectors. Members serve as representatives of their respective group or viewpoint and are not Special Government Employees (SGEs) as defined in title 18 of United States Code, section 202(a).

3. Persons seated on other Census Bureau stakeholder entities (i.e., State Data Centers, Census Information Centers, Federal State Cooperative on Populations Estimates program, or other Census Bureau advisory committees, etc.) may not serve on the Committee.

4. The Director of the Census Bureau will appoint the Committee Chair and Vice Chair from among the membership to one-year terms. The Chair and Vice Chair may be appointed for additional one-year terms. Appointment as the Committee Chair and Vice Chair will not exceed membership term limitations. Upon completion of appointment as Committee Chair or Vice Chair, the member may fulfill any remaining membership term(s) at the discretion of the Director of the Census Bureau.

5. Members generally will serve an initial three-year term. All members will be reevaluated at the conclusion of their initial term with the prospect of renewal, pending advisory committee and 2030 Census needs. Active attendance and participation in meetings and activities (i.e., conference calls, administrative matters, and assignments) will be factors considered when determining term renewal or membership continuance. Members may be appointed for a second, three-year term at the discretion of the Director of the Census Bureau.

6. The Committee aims to have a balanced representation among its members, considering such factors as geography, technical expertise, community involvement, and knowledge of census programs and/or activities. The diverse membership of the Committee assures perspectives and expertise reflecting the breadth of the Committee's responsibilities, and, where possible, the Census Bureau will also consider the ethnic, racial, and gender diversity and various abilities of the United States population.

7. Members shall not reference or otherwise utilize their membership on the Committee in connection with public statements made in their personal capacities without a disclaimer that the views expressed are their own and do not represent the views of the Committee, the Census Bureau, the Department of Commerce, or the U.S. Government.

Miscellaneous

1. Members of the Committee shall not be compensated for their participation, but will, upon request, be allowed travel and per diem expenses as authorized by 5 U.S.C. 5703.

2. The Census Bureau will convene at least two Committee meetings per year, budget and environmental conditions permitting.

Nomination Process

1. Nominations should satisfy the requirements described in the Membership section above.

2. Individuals, groups, and/or organizations may submit nominations on behalf of candidates. A summary of the candidate's qualifications (resume or curriculum vitae) must be included along with the nomination letter. Nominees must be able to actively participate in the tasks of the Advisory Committee, including, but not limited to regular meeting attendance, committee meeting discussant responsibilities, review of materials, as well as participation in conference calls, webinars, working groups, and/or special committee activities.

3. The Department of Commerce is committed to equal opportunity in the workplace and seeks diverse Advisory Committee membership.

Robert L. Santos, Director, Census Bureau, approved the publication of this Notice in the Federal Register.

Dated: August 21, 2023.
Shannon Wink,
Program Analyst, Policy Coordination Office, U.S. Census Bureau.

[FR Doc. 2023-18341 Filed 8-24-23; 8:45 am]

BILLING CODE 3510-07-P